INTERNATIONAL TRADE COMMISSION

[Investigation No. 731-TA-921 (Second Review)]

Folding Gift Boxes From China

Determination

On the basis of the record ¹ developed in the subject five-year review, the United States International Trade Commission (Commission) determines, pursuant to section 751(c) of the Tariff Act of 1930 (19 U.S.C. 1675(c)), that revocation of the antidumping duty order on folding gift boxes from China would be likely to lead to continuation or recurrence of material injury to an industry in the United States within a reasonably foreseeable time.

¹ The record is defined in sec. 207.2(f) of the Commission's Rules of Practice and Procedure (19 CFR 207.2(f)).

Background

The Commission instituted this review on April 2, 2012 (77 FR 19714) and determined on July 6, 2012 that it would conduct an expedited review (77 FR 42762, July 20, 2012).

The Commission transmitted its determination in this review to the Secretary of Commerce on December 10, 2012. The views of the Commission are contained in USITC Publication 4365 (November 2012), entitled Folding Gift Boxes from China: Investigation No. 731-TA-921 (Second Review).

By order of the Commission.
Issued: December 10, 2012.
Lisa R. Barton,
Acting Secretary to the Commission.

[FR Doc. 2012-30162 Filed 12-13-12; 8:45 am]

BILLING CODE 7020-02-P